ENVIRONMENTAL PROTECTION AGENCY

40 CFR Part 52

[EPA-R07-OAR-2017-0512; FRL-9971-00-Region 7]

Approval of Kansas Air Quality State Implementation Plans; Construction Permits and Approvals Program; Withdrawal

AGENCY: Environmental Protection Agency (EPA).

ACTION: Withdrawal of direct final rule.

SUMMARY: Due to an adverse comment, the Environmental Protection Agency (EPA) is withdrawing the direct final rule for Approval of Kansas Air Quality State Implementation Plans; Construction Permits and Approvals Program, published in the Federal Register on September 21, 2017. Kansas's SIP revisions included revisions to Kansas' construction permit rules. Specifically, these revisions implemented the revised National Ambient Air Quality Standard (NAAQS) for fine particulate matter; clarified and refined applicable criteria for sources subject to the construction permitting program; updated the construction permitting program fee structure and schedule; and made minor revisions and corrections.

DATES: As of November 17, 2017, the direct final rule published at 82 FR 44103, on September 21, 2017, is withdrawn.

FOR FURTHER INFORMATION CONTACT: Deborah Bredehoft, Environmental Protection Agency, Air Planning and Development Branch, 11201 Renner Boulevard, Lenexa, Kansas 66219 at (913) 551-7164, or by email at Bredehoft.Deborah@epa.gov.

SUPPLEMENTARY INFORMATION: Due to adverse comments, EPA is withdrawing the direct final rule to approve revisions to the Kansas State Implementation Plan (SIP). In the direct final rule published on September 21, 2017 (82 FR 44103), we stated that if we received adverse comment by October 23, 2017, the rule would be withdrawn and not take effect. EPA received adverse comments. EPA will address the comments in a subsequent action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 8, 2017.
Cathy Stepp,
Acting Regional Administrator, Region 7.

PART 52—APPROVAL AND PROMULGATION OF IMPLEMENTATION PLANS

Accordingly, the amendment to 40 CFR 52.870 published in the Federal Register on September 21, 2017 (82 FR 44103), on page 44105 is withdrawn.

[FR Doc. 2017-24894 Filed 11-16-17; 8:45 am]

BILLING CODE 6560-50-P